DEPARTMENT OF TRANSPORTATION

Federal Aviation Administration

Notice of Intent To Rule on Request To Release Airport Property at the Abernathy Municipal Airport, Abernathy, TX

AGENCY: Federal Aviation Administration (FAA), DOT.

ACTION: Notice of request to release airport property.

SUMMARY: The FAA proposes to rule and invite public comment on the release of land at the Abernathy Municipal Airport under the provisions of section 125 of the Wendell H. Ford Aviation Investment Reform Act for the 21st Century (AIR 21).

DATES: Comments must be received on or before February 25, 2002.

ADDRESSES: Comments on this application may be mailed or delivered to the FAA at the following address: Mr. Mike Nicely, Manager, Federal Aviation Administration, Southwest Region Airports Division, Texas Airports Development Office, ASW-650, Fort Worth, Texas 76193-0650.

In addition, one copy of any comments submitted to the FAA must be mailed or delivered to Mr. Frank Russell, City Manager, at the following address: City of Abernathy, PO Box 310, Abernathy, Texas 79311.

FOR FURTHER INFORMATION CONTACT: Ms. Kimchi Hoang, Program Manager, Federal Aviation Administration, Texas Airports Development Office, ASW-650, 2601 Meacham Boulevard, Fort Worth, Texas 76193-0650, Telephone: (817) 222-5681, e-mail: Kimchi.Hoang@faa.gov, fax: (817) 222-5989.

The request to release property may be reviewed in person at this same location.

SUPPLEMENTARY INFORMATION: The FAA invites public comment on the request to release property at the Abernathy Municipal Airport under the provisions of the AIR 21.

On January 16, 2002, the FAA determined that the request to release property at Abernathy Municipal Airport, submitted by the City, met the procedural requirements of the Federal Aviation Regulations, part 155. The FAA may approve the request, in whole on in part, no later than March 31, 2002.

The following is a brief overview of the request:

The City of Abernathy requests the release of 211.355 acres of non-aeronautical airport property. The land is part of a War Assets Administration deed of airport property to the City in 1948. The fair market value of the sale is appraised at $31,700 to be used for upgrading, maintenance, operation and development of the airport.

Any person may inspect the request in person at the FAA office listed above under FOR FURTHER INFORMATION CONTACT.

In addition, any person may, upon request, inspect the application, notice and other documents relevant to the application in person at the City Hall of Abernathy, telephone number (806) 298-2546 or at the Texas Department of Transportation, Aviation Division, 125 E. 11th Street, Austin, TX 78701-2483, Ms. Sandra Gaither, telephone number (512) 416-4544.

Issued in Forth Worth, Texas on January 16, 2002.
Naomi L. Saunders,
Manager, Airports Division.

[FR Doc. 02-1769 Filed 1-23-02; 8:45 am]

BILLING CODE 4910-13-M